DELAWARE RIVER BASIN COMMISSION

Notice of Public Hearing; Proposal To Revise the Fee Schedule for the Review of Projects Under Section 3.8 and Article 10 of the Delaware River Basin Compact

AGENCY: Delaware River Basin Commission.

ACTION: Notice of public meeting.

SUMMARY: The Commission will hold a public hearing and solicit comment on proposed changes to the fee schedule for the review of projects under Section 3.8 and Article 10 of the Delaware River Basin Compact. The Commission instituted project review fees in 1972, in order to allocate to applicants a portion of the cost of reviewing water resource projects. The fees, which are paid to the Commission at the time applications are filed, were increased only once, in 1991, and have not been revised since.

The substantive revisions include the following: Instituting filing fees for projects sponsored by political subdivisions of the basin states; for public projects costing less than $250,000, charging a fee of $250; for privately sponsored projects costing $250,000 or less, increasing the fee from $250 to $500; for projects costing from $250,001 to $10,000,000, increasing the fee from 0.1 to 0.2 percent of project cost; and for projects costing over $10,000,000, increasing the fee from 0.04 to 0.06 percent of project cost, not to exceed $50,000. In addition, the surcharge for any project resulting in an out-of-basin diversion is proposed to be increased from 50 percent to double the fee calculated in accordance with the foregoing. The method of calculating project costs is proposed to remain unchanged. New fees are proposed to be instituted for two types of actions: (1) A fee of $5,000 is proposed for a request for an emergency certificate under Section 2.3.9B of the Commission's Rules of Practice and Procedure to waive or amend a docket condition; and (2) a fee of $500 is proposed for the transfer of a docket upon a change of ownership as defined in Resolution No. 87-15. In all cases, if the fixed fee or fee calculated in accordance with the prescribed formulas is deemed by the executive director to be insufficient due to exceptional costs associated with Commission review, it is proposed that the Commission may charge the applicant 100 percent of all costs deemed by the executive director to be exceptional. The revised fee schedule is proposed to become effective on July 1, 2003 for all applications submitted on or after July 1, 2003.

DATES: The public hearing will be held on June 26, 2003 during the Commission's regular business meeting, which will begin at 1 p.m. The hearing will continue until all those present who wish to testify are afforded an opportunity to do so. Persons wishing to testify are asked to register in advance with the Commission Secretary, by phoning 609-883-9500 x203. Written comments will be accepted through the close of the public hearing.

ADDRESSES: The public hearing will be held at the Commission's offices at 25 State Police Drive in West Trenton, New Jersey. Directions are posted on the Commission's Web site at http://www.drbc.net. Written comments may be submitted electronically to fees@drbc.state.nj.us, with a subject line reading “FEES,” or in hard copy to the Commission Secretary, DRBC, PO Box 7360, West Trenton, NJ 08628-0360. The full name, street or post office address, and telephone number for the entity or individual submitting the comment must appear on all submissions.

FOR FURTHER INFORMATION CONTACT: Please contact Pamela M. Bush at 609-883-9500, ext. 203 with questions about the hearing process and comment period or the proposed changes in the project review fee schedule.

SUPPLEMENTARY INFORMATION: A draft resolution containing the proposed new fee schedule may be viewed on the Commission's Web site, http://www.drbc.net. The current fee schedule, set forth in Resolution No. 91-3, also may be viewed on the web site.

Dated: May 12, 2003.
Pamela M. Bush,
Commission Secretary.

[FR Doc. 03-12230 Filed 5-15-03; 8:45 am]

BILLING CODE 6360-01-P